NUCLEAR REGULATORY COMMISSION

[NRC-2018-0178]

Proposed Revisions to Standard Review Plan Section 2.5.3 Surface Deformation

AGENCY: Nuclear Regulatory Commission

ACTION: Standard review plan-final section revision; issuance.

SUMMARY: The U.S. Nuclear Regulatory Commission (NRC) is issuing a final revision to Section 2.5.3, “Surface Deformation” of NUREG-0800, “Standard Review Plan for the Review of Safety Analysis Reports for Nuclear Power Plants: LWR Edition.”

DATES: The update to this SRP takes effect on December 3, 2019.

ADDRESSES: Please refer to Docket ID NRC-2018-0178 when contacting the NRC about the availability of information regarding this document. You may obtain publicly-available information related to this document using any of the following methods:

• Federal Rulemaking website: Go to https://www.regulations.gov/ and search for Docket ID NRC-2018-0178. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Document collection at https://www.nrc.gov/reading-rm/adams.html. To begin the search, select “Begin Web-based ADAMS Search.” For problems with ADAMS, contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

• The NRC posts its issued staff guidance on the NRC's public website at http://www.nrc.gov/reading-rm/doc-collections/nuregs/staff/sr0800/.

FOR FURTHER INFORMATION CONTACT: Mark D. Notich, Office of New Reactors, U.S. Nuclear Regulatory Commission, Washington, DC 20555-0001; telephone: 301-415-3053, email: Mark.Notich@nrc.gov.

SUPPLEMENTARY INFORMATION:

I. Background

On September 28, 2018 (83 FR 49139), the NRC published for public comment a proposed revision of Section 2.5.3, “Surface Deformation” of NUREG-0800, “Standard Review Plan for the Review of Safety Analysis Reports for Nuclear Power Plants: LWR Edition.” The NRC re-issued Standard Review Plan (SRP 2.5.3) on November 16, 2018 (83 FR 57753) in order to give the public more time to provide comment. The public comment period closed on November 26, 2018. No public comments were received regarding draft Revision 6 of SRP 2.5.3. The final Revision 6 to NUREG-0800, Section 2.5.3, “Surface Deformation” is available in ADAMS under Accession No. ML19009A314.

II. Backfitting and Issue Finality

Chapter 2 of the SRP provides guidance to the staff for reviewing hydrologic and hydrogeologic information provided in application for licensing actions. Section 2.5.3 of the SRP provides guidance for the review of information addressing surface deformations.

Issuance of this SRP section revision does not constitute backfitting as defined in section 50.109 of title 10 of the Code of Federal Regulations (10 CFR), (the Backfit Rule) nor is it inconsistent with the issue finality provisions in 10 CFR part 52. The NRC's position is based upon the following considerations.

1. The SRP positions do not constitute backfitting, inasmuch as the SRP is guidance directed to the NRC staff with respect to its regulatory responsibilities.

The SRP provides guidance to the NRC staff on how to review an application for NRC regulatory approval in the form of licensing. Changes in guidance intended for use by only the staff are not matters that constitute backfitting as that term is defined in 10 CFR 50.109(a)(1) or involve the issue finality provisions of 10 CFR part 52.

2. Backfitting and issue finality—with certain exceptions discussed below—do not apply to current or future applicants.

Applicants and potential applicants are not, with certain exceptions, the subject of either the Backfit Rule or any issue finality provisions under 10 CFR part 52. This is because neither the Backfit Rule nor the issue finality provisions of 10 CFR part 52 were intended to apply to every NRC action that substantially changes the expectations of current and future applicants.

The exceptions to the general principle are applicable whenever a 10 CFR part 50 operating license applicant references a construction permit or a 10 CFR part 52 combined license applicant references a license (e.g., an early site permit) and/or an NRC regulatory approval (e.g., a design certification rule) for which specified issue finality provisions apply.

The NRC staff does not currently intend to impose the positions represented in this final SRP section in a manner that constitutes backfitting or is inconsistent with any issue finality provision of 10 CFR part 52. If in the future the NRC staff seeks to impose positions stated in this SRP section in a manner that would constitute backfitting or be inconsistent with these issue finality provisions, the NRC staff must make the showing as set forth in the Backfit Rule or address the regulatory criteria set forth in the applicable issue finality provision, as applicable, that would allow the staff to impose the position.

3. The NRC staff has no intention to impose the SRP positions on existing nuclear power plant licensees either now or in the future (absent a voluntary request for a change from the licensee, holder of a regulatory approval or a design certification applicant).

The staff does not intend to impose or apply the positions described in this final SRP section to existing (already issued) licenses (e.g., operating licenses and combined licenses) and regulatory approvals. Hence, the issuance of this SRP guidance—even if considered guidance subject to the Backfit Rule or the issue finality provisions in 10 CFR part 52—would not need to be evaluated as if it were a backfit or as being inconsistent with issue finality provisions. If, in the future, the NRC staff seeks to impose a position in the SRP on holders of already issued licenses in a manner that would constitute backfitting or does not provide issue finality as described in the applicable issue finality provision, then the staff must make a showing as set forth in the Backfit Rule or address the criteria set forth in the applicable issue finality provision, as applicable, that would allow the staff to impose the position.

III. Congressional Review Act

This action is not a rule as defined in the Congressional Review Act (5 U.S.C. 801-808).

Dated at Rockville, Maryland, this 26th day of November, 2019.
For the Nuclear Regulatory Commission.
Dennis C. Morey,
Chief, Licensing Project Branch, Division of Operating Reactors, Office of Nuclear Reactor Regulation.

[FR Doc. 2019-26060 Filed 12-2-19; 8:45 am]

BILLING CODE 7590-01-P